DEPARTMENT OF COMMERCE

International Trade Administration

[A-583-853]

Certain Crystalline Silicon Photovoltaic Products From Taiwan: Final Results of Antidumping Duty Administrative Review; Partial Rescission of Antidumping Duty Administrative Review; Final Determination of No Shipments; 2019-2020

AGENCY: Enforcement and Compliance, International Trade Administration, Department of Commerce.

SUMMARY: The Department of Commerce (Commerce) determines that certain crystalline silicon photovoltaic products (solar products) from Taiwan were sold in the United States at less than normal value during the period of review (POR), February 1, 2019, through January 31, 2020.

DATES: Applicable September 3, 2021.

FOR FURTHER INFORMATION CONTACT: Zachary Shaykin or Thomas Martin, AD/CVD Operations, Office IV, Enforcement and Compliance, International Trade Administration, U.S. Department of Commerce, 1401 Constitution Avenue NW, Washington, DC 20230; telephone: (202) 482-2638 or (202) 482-3936, respectively.

SUPPLEMENTARY INFORMATION:

Background

On April 29, 2021, Commerce published the Preliminary Results.¹ On June 8, 2021, we received case briefs from Inventec Solar Energy Corporation (ISEC),² JA Solar International Limited (JA Solar),³ and United Renewable Energy Corporation (URE),⁴ and a letter in lieu of a case brief from Canadian Solar companies.⁵ We received no rebuttal briefs. For a complete description of the events that occurred since the Preliminary Results, see the Issues and Decision Memorandum.⁶

¹ See Certain Crystalline Silicon Photovoltaic Products from Taiwan: Preliminary Results; Preliminary Intent to Rescind and Partial Rescission of Antidumping Duty Administrative Review; and Preliminary Determination of No Shipments; 2019-2020, 86 FR 22630 (April 29, 2021) (Preliminary Results).

² See ISEC's Letter, “Certain Crystalline Silicon Photovoltaic Products from Taiwan: Case Brief,” dated June 8, 2021.

³ See JA Solar's Letter, “Antidumping Duty Administrative Review of Certain Crystalline Silicon Photovoltaic Products from Taiwan: Case Brief,” dated June 8, 2021 (JA Solar's Case Brief).

⁴ See URE's Letter, “Certain Crystalline Silicon Photovoltaic Products from Taiwan: Case Brief,” dated June 8, 2021.

⁵ The Canadian Solar companies are: (1) Canadian Solar Inc.; (2) Canadian Solar International Limited; (3) Canadian Solar Manufacturing (Changshu), Inc.; (4) Canadian Solar Manufacturing (Luoyang), Inc., and; (5) Canadian Solar Solutions Inc. (collectively, Canadian Solar). See Canadian Solar's Letter, “Certain Crystalline Silicon Photovoltaic Products from Taiwan (2019-2020 Review): Letter in Lieu of Case Brief of Canadian Solar,” dated June 8, 2021.

⁶ See Memorandum, “Issues and Decision Memorandum for the Final Results of the 2019-2020 Administrative Review of the Antidumping Duty Order on Certain Crystalline Silicon Photovoltaic Products from Taiwan,” dated concurrently with, and hereby adopted by, this notice (Issues and Decision Memorandum).

Scope of the Order ⁷

⁷ See Certain Crystalline Silicon Photovoltaic Products from Taiwan: Antidumping Duty Order, 80 FR 8596 (February 18, 2015) (Order).

The merchandise covered by the Order is solar products from Taiwan. For a complete description of the scope of this review, see the Issues and Decision Memorandum.⁸

⁸ Id.

Analysis of Comments Received

All issues raised in the case briefs that were submitted by parties in this administrative review are addressed in the Issues and Decision Memorandum. A list of the sections of the Issues and Decision Memorandum are in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn.

Changes Since the Preliminary Results

Based on a review of the record and comments received from interested parties regarding our Preliminary Results, we made changes to the weighted-average dumping margin for the ISEC/E-TON entity ⁹ and the weighted-average rate for companies not selected for individual review in this administrative review; ¹⁰ however, no changes were made to the weighted-average dumping margin for URE. In addition, we: (1) Corrected the name of certain Canadian Solar companies from the Preliminary Results and from the draft U.S. Customs and Border Protection (CBP) instructions that we released for comment; ¹¹ and (2) added certain case numbers to Commerce's draft customs instructions.¹²

⁹ Commerce has determined to collapse Inventec Solar Energy Corporation and E-TON Solar Tech. Co., Ltd., and treat these companies as a single entity for the purposes of this review, in accordance with 19 CFR 351.401(f). See Memorandum, “2019-2020 Administrative Review of Certain Crystalline Silicon Photovoltaic Products from Taiwan: Affiliation and Single Entity Treatment Memorandum,” dated April 23, 2021.

¹⁰ See Issues and Decision Memorandum at Comment 1.

¹¹ Id. at Comment 4.

¹² Id. at Comment 5.

Partial Recission of Administrative Review

We originally initiated this review with respect to Inventec Energy Corporation (IEC).¹³ On March 5, 2021, ISEC reported that IEC ceased business operations, and was dissolved and liquidated prior to the POR.¹⁴ Therefore, pursuant to 19 CFR 351.213(d)(3) and in accordance with the Preliminary Results and Commerce practice, we have completed this review with respect to IEC, and continue to conclude that IEC had no shipments during the POR. Thus, pursuant to 19 CFR 351.213(d)(3), Commerce has rescinded this administrative review with respect to IEC. Therefore, Commerce will issue the appropriate instructions to CBP based on these final results.

¹³ See Initiation of Antidumping and Countervailing Duty Administrative Reviews, 85 FR 19730, 19735 (April 8, 2020).

¹⁴ See Memorandum, “Certain Crystalline Silicon Photovoltaic Products from Taiwan—Inventec's Sections A Supplemental Questionnaire Response,” dated March 5, 2021.

Final Determination of No Shipments

As noted in the Preliminary Results, we received no-shipment claims from seven producers and/or exporters under review, and we preliminarily determined that these seven companies had no shipments during the POR.¹⁵ We received no comments from interested parties with respect to these claims. Therefore, because we have not received any information to contradict our preliminary no-shipment determination, nor comment in opposition to our preliminary finding and record evidence indicates that these seven companies had no entries of subject merchandise to the United States during the POR, we continue to find that they had no shipments during the POR.¹⁶ Consistent with our practice, we have completed the review with respect to these seven companies and will issue appropriate instructions to CBP based on our final results. We will instruct CBP to liquidate any existing entries of subject merchandise produced by the seven companies, but exported by other parties, at the rate for the intermediate reseller, if available, or at the all-others rate.

¹⁵ See Preliminary Results, 86 FR at 22632. These companies are AU Optronics Corporation; Canadian Solar Inc.; Canadian Solar International Limited.; Canadian Solar Manufacturing (Changshu), Inc.; Canadian Solar Manufacturing (Luoyang), Inc.; Canadian Solar Solutions Inc.; and Vina Solar Technology Co., Ltd.

¹⁶ See Preliminary Results, 86 FR at 22632.

Final Rates for Non-Examined Companies

The statute and Commerce's regulations do not address the establishment of a rate to be applied to individual respondents not selected for examination when Commerce limits its examination in an administrative review pursuant to section 777A(c)(2) of the Tariff Act of 1930, as amended (the Act). Generally, Commerce looks to section 735(c)(5) of the Act, which provides instructions for calculating the all-others rate in an investigation, for guidance when calculating the rate for respondents which we did not individually examine in an administrative review. Section 735(c)(5)(A) of the Act establishes a preference to avoid using rates which are zero, de minimis, or based entirely on facts available (FA) in calculating an all-others rate. Accordingly, Commerce's practice in administrative reviews has been to average the weighted-average dumping margins for the companies selected for individual examination in the administrative review, excluding rates that are zero, de minimis, or based entirely on FA. For these final results of review, we have calculated weighted-average dumping margins that are not zero, de minimis, or determined entirely on the basis of facts available.¹⁷ Accordingly, Commerce assigns to the companies not individually examined in this review a dumping margin of 7.89 percent, which is the weighted-average of the dumping margins calculated using the public ranged sales data of ISEC and E-TON, and URE.

¹⁷ In the case of two mandatory respondents, our practice is to calculate: (A) A weighted average of the dumping margins calculated for the mandatory respondents; (B) a simple average of the dumping margins calculated for the mandatory respondents; and (C) a weighted average of the dumping margins calculated for the mandatory respondents using each company's publicly ranged values for the merchandise under consideration. We compare (B) and (C) to (A) and select the rate closest to (A) as the most appropriate rate for all other companies. See Certain Crystalline Silicon Photovoltaic Products from Taiwan: Final Results of Antidumping Duty Administrative Review; 2014-2016, 82 FR 31555, 31556 (July 7, 2017). We have applied that practice here. See Memorandum, “Calculation of the Rate for Non-Selected Respondents,” dated concurrently with this notice.

Final Results of the Review

As a result of this review, Commerce determines the following weighted-average dumping margins exist for the mandatory respondents, the ISEC/E-TON entity and URE, for the period February 1, 2019, through January 31, 2020.

Producers/exporters | Weighted- average dumping margin (percent)
Inventec Solar Energy Corporation and E-TON Solar Tech Co., Ltd | 21.87
United Renewable Energy Co., Ltd | 1.27

Review-Specific Average Rate Applicable to the Following Companies:

Producers/exporters | Weighted- average dumping margin (percent)
Baoding Jiasheng Photovoltaic Technology Co. Ltd | 7.89
Baoding Tianwei Yingli New Energy Resources Co., Ltd | 7.89
Beijing Tianneng Yingli New Energy Resources Co. Ltd | 7.89
Boviet Solar Technology Co., Ltd | 7.89
EEPV CORP | 7.89
Hainan Yingli New Energy Resources Co., Ltd | 7.89
Hengshui Yingli New Energy Resources Co., Ltd | 7.89
Kyocera Mexicana S.A. de C.V | 7.89
Lixian Yingli New Energy Resources Co., Ltd | 7.89
Motech Industries, Inc | 7.89
Shenzhen Yingli New Energy Resources Co., Ltd | 7.89
Sunengine Corporation Ltd | 7.89
Sunrise Global Solar Energy | 7.89
Tianjin Yingli New Energy Resources Co., Ltd | 7.89
TSEC Corporation | 7.89
Win Win Precision Technology Co., Ltd | 7.89
Yingli Energy (China) Co., Ltd | 7.89
Yingli Green Energy International Trading Company Limited | 7.89

Disclosure

We intend to disclose the calculations performed in connection with these final results to parties in this proceeding within five days after the date of publication of this notice, in accordance with 19 CFR 351.224(b).

Assessment Rates

Pursuant to section 751(a)(2)(C) of the Act, and 19 CFR 351.212(b)(1), Commerce has determined, and CBP shall assess, antidumping duties on all appropriate entries of subject merchandise in accordance with the final results of this review. Pursuant to 19 CFR 351.212(b)(1), we calculated importer-specific ad valorem duty assessment rates based on the ratio of the total amount of dumping calculated for the examined sales to the total entered value of those sales. Where either the respondent's weighted-average dumping margin is zero or de minimis within the meaning of 19 CFR 351.106(c)(1), or an importer-specific assessment rate is zero or de minimis, we will instruct CBP to liquidate the appropriate entries without regard to antidumping duties.

For the companies which were not selected for individual review, we will instruct CBP to assess antidumping duties at an ad valorem rate equal to each company's weighted-average dumping margin identified above. The final results of this review shall be the basis for the assessment of antidumping duties on entries of merchandise covered by the final results of this review and for future deposits of estimated duties, where applicable.¹⁸

¹⁸ See section 751(a)(2)(C) of the Act.

For entries of subject merchandise during the POR produced by each mandatory respondent for which it did not know its merchandise was destined for the United States, or for entries associated with the seven companies that had no shipments during the POR, we will instruct CBP to liquidate such entries at the all-others rate if there is no rate for the intermediate company(-ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) The cash deposit rate for each specific company listed above will be equal to the weighted-average dumping margin that is established in the final results of this review, (2) for previously investigated companies not listed above, including the companies which Commerce has determined had no shipments in these final results, the cash deposit rate will continue to be the company-specific rate published for the most recently completed segment of this proceeding in which the companies participated; (3) if the exporter is not a firm covered in this review, a prior review, or the original less-than-fair-value (LTFV) investigation, but the producer is, then the cash deposit rate will be the cash deposit rate established for the most recently completed segment for the producer of the subject merchandise; and (4) the cash deposit rate for all other producers or exporters will continue to be 19.50 percent, the all-others rate established in the LTFV investigation.¹⁹ These cash deposit requirements, when imposed, shall remain in effect until further notice.

¹⁹ See Certain Crystalline Silicon Photovoltaic Products from Taiwan: Final Determination of Sales at Less Than Fair Value, 79 FR 76966, 76969 (December 23, 2014).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as the final reminder to parties subject to administrative protective order (APO) of their responsibility concerning the return or destruction of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act, and 19 CFR 351.221(b)(5) and 19 CFR 351.213(h).

Dated: August 27, 2021.
Christian Marsh,
Acting Assistant Secretary for Enforcement and Compliance.

Appendix—List of Sections in the Issues and Decision Memorandum

I. Summary

II. Background

III. Scope of the Order

IV. Final Determination of No Shipments

V. Partial Recission of Administrative Review

VI. Changes Since the Preliminary Results

VII. Discussion of the Issues

Comment 1: Whether Commerce Made a Clerical Error in the Normal Value Calculation in Certain Instances for Certain Control Number (CONNUM) Models

Comment 2: Whether to Attribute Certain U.S. sales to ISEC or its Customer Pursuant to the Knowledge Test

Comment 3: Whether Commerce Should Collapse ISEC and E-TON into a Single Entity

Comment 4: Name Correction for Certain Canadian Solar Companies

Comment 5: Whether to Include an Additional Case Number to Liquidation and Cash Deposit Instructions with Respect to URE

VIII. Recommendation

[FR Doc. 2021-19052 Filed 9-2-21; 8:45 am]

BILLING CODE 3510-DS-P